FEDERAL COMMUNICATIONS COMMISSION

Public Information Collection(s) Requirement Submitted to OMB for Emergency Review and Approval

February 10, 2004.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 15, 2004. If you anticipate that you will be submitting comments, but find it difficult to do so within the period of time allowed by this notice, you should advise the contacts listed below as soon as possible.

ADDRESSES: Direct all PRA comments to Kristy L. LaLonde, Office of Management and Budget, Room 10234 NEOB, Washington, DC 20503, (202) 395-3087, or via fax at (202) 395-5167 or via internet at Kristy_L._LaLonde@omb.eop.gov, and Judith B. Herman, Federal Communications Commission, Room 1-C804, 445 12th Street SW., Washington, DC 20554 or via internet to Judith-B.Herman@fcc.gov.

FOR FURTHER INFORMATION CONTACT: For additional information or copies of the information collections contact Judith B. Herman at (202) 418-0214 or via internet at Judith-B.Herman@fcc.gov.

SUPPLEMENTARY INFORMATION: The Commission has requested emergency OMB processing review of this new information collection with an OMB approval by February 20, 2004.

OMB Control Number: 3060-XXXX.

Title: Wireless E911 Coordination Initiative Letter.

Form No.: N/A.

Type of Review: Existing Collection in Use Without an OMB Control Number.

Respondents: State, local and tribal government.

Number of Respondents: 36.

Estimated Time Per Response: .75 hours.

Frequency of Response: On occasion and one-time reporting requirements.

Total Annual Burden: 27 hours.

Total Annual Cost: N/A.

Needs and Uses: The Federal Communications Commission requests emergency OMB clearance for a new information collection requirement, implemented in a letter that was sent, following the FCC's Second E911 Coordination Initiative, to pertinent State officials who had been appointed to oversee their States' programs to implement emergency (E911) Phase II service. The Commission would like emergency OMB approval for this voluntary reporting collection so that we can correct serious inaccuracies and have up-to-date information to ensure the integrity of the Commission's database of Public Safety Answering Points (PSAPs) throughout the nation. The accurate compiling and maintaining of this database is an inherent part of the Commission's effort to achieve the expeditious implementation of E911 service across the nation and to ensure homeland security.

Federal Communications Commission.
Marlene H. Dortch,
Secretary.

[FR Doc. 04-3238 Filed 2-12-04; 8:45 am

BILLING CODE 6712-01-P